OFFICE OF MANAGEMENT AND BUDGET

Budget Rescissions and Deferrals

TO THE CONGRESS OF THE UNITED STATES:

In accordance with the Congressional Budget and Impoundment Control Act of 1974, I herewith report three rescissions of budget authority, totaling $128 million, and two deferrals of budget authority, totaling $1.6 million.

The proposed rescissions affect the programs of the Department of Energy and the Department of Housing and Urban Development. The proposed deferrals affect programs of the Department of State and International Assistance Programs.

William J. Clinton
THE WHITE HOUSE,
February 9, 2000.

BILLING CODE 3110-01-P

[FR Doc. 00-4194 Filed 2-22-00; 8:45 am]

BILLING CODE 3110-01-C